DEPARTMENT OF TRANSPORTATION

Coast Guard

33 CFR Part 155

[USCG-1998-3417]

RIN 2115-AF60

Salvage and Marine Firefighting Requirements; Vessel Response Plans for Oil

AGENCY: Coast Guard, DOT.

ACTION: Proposed rulemaking; notice of public meetings.

SUMMARY: The Coast Guard announces three public meetings to receive comments on a notice of proposed rulemaking addressing the salvage and marine firefighting requirements for tank vessels transporting oil. The meetings will be held at three locations in order to allow for greater public involvement.

DATES: The public meetings will be held at the following locations:

Texas City, TX, July 9, 2002, from 9:30 a.m. to 4:00 p.m.

Philadelphia, PA, July 17, 2002, from 9:30 a.m. to 4:00 p.m.

Seattle, WA, July 25, 2002, from 9:30 a.m. to 4:00 p.m.

The meetings may conclude before the allotted time if all matters of discussion have been addressed.

ADDRESSES: The public meetings will be held at the following locations:

Texas City, TX—The Texas City/Charles T. Doyle Convention Center, 2010 5th Ave N., Stephen F. Austin Room, Texas City, TX 77590

Philadelphia, PA—U.S. Coast Guard Marine Safety Office, One Washington Avenue, Multi-Purpose Room, Philadelphia, PA 19147-4395

Seattle, WA—Henry M. Jackson Federal Building, 915 Second Ave., North Auditorium, Room 3448, Seattle, WA 98174-1067

This notice is available on the Internet at http://dms.dot.gov in the docket for this rulemaking [USCG-1998-3417].

FOR FURTHER INFORMATION CONTACT: If you have questions concerning this proposed rulemaking or concerning any of the public meetings, please contact Lieutenant Douglas Lincoln, Office of Response, Response Operations Division, Coast Guard Headquarters, telephone 202-267-0448, or via e-mail at DLincoln@comdt.uscg.mil. If you have questions on viewing or submitting material(s) to the docket, please call Ms. Dorothy Beard, Chief, Dockets, Department of Transportation, telephone 202-366-5149.

SUPPLEMENTARY INFORMATION:

Background and Purpose

In a notice of proposed rulemaking (NPRM) that was published in the Federal Register on May 10, 2002 (67 FR 31868), entitled “Salvage and Marine Firefighting Requirements; Vessel Response Plans for Oil,” the Coast Guard stated our intention to hold public meetings, and we indicated that we would announce their locations and dates as soon as we had finalized the details of the meetings. In this notice we announce three public meetings to receive comments on the proposed rulemaking.

In the NPRM, we proposed to revise the vessel response plan salvage and marine firefighting requirements for tank vessels transporting oil. The revisions would clarify the salvage and marine firefighting services that must be identified in vessel response plans. The proposed changes would assure that the appropriate salvage and marine firefighting resources are identified and available for responding to incidents up to, and including, the worst-case scenario. The proposed rulemaking would also set new response time requirements for each of the required salvage and marine firefighting services.

Information on Service for Individuals With Disabilities

For information on facilities or services for individuals with disabilities or to request special assistance at the public meeting, contact Lieutenant Douglas Lincoln at the telephone number indicated under the FOR FURTHER INFORMATION CONTACT section of this notice.

Public Meeting

The Coast Guard will hold three public meetings regarding this proposed rulemaking on the following dates at the following locations:

Texas City, TX, July 9, 2002, from 9:30 a.m. to 4 p.m., at The Texas City/Charles T. Doyle Convention Center, 2010 5th Ave N., Stephen F. Austin Room, Texas City, TX 77590

Philadelphia, PA, July 17, 2002, from 9:30 a.m. to 4 p.m., at the U.S. Coast Guard Marine Safety Office, One Washington Avenue, Multi-Purpose Room, Philadelphia, PA 19147-4395

Seattle, WA, July 25, 2002, from 9:30 a.m. to 4:00 p.m., at the Henry M. Jackson Federal Building, 915 Second Ave., North Auditorium, Room 3448, Seattle, WA 98174-1067

The meetings may conclude before the allotted time if all matters of discussion have been addressed.

Summaries of comments made and lists of attendees will be available on the docket after each meeting concludes.

Dated: June 5, 2002.
J.G. Lantz,
Captain, U.S. Coast Guard, Acting Director of Standards, Marine Safety, Security and Environmental Protection.

[FR Doc. 02-14967 Filed 6-10-02; 3:05 pm]

BILLING CODE 4910-15-P